DEPARTMENT OF COMMERCE

International Trade Administration

[Application No. 85-17A18]

Export Trade Certificate of Review

ACTION: Notice of Issuance of an Amended Export Trade Certificate of Review to U.S. Shippers Association.

SUMMARY: The Secretary of Commerce, through the International Trade Administration, Office of Competition and Economic Analysis (OCEA), has issued an amended Export Trade Certificate of Review (“Certificate”) to the U.S. Shippers Association (“USSA”) on February 15, 2013. USSA's application to amend its Certificate was announced in the Federal Register on December 5, 2012 (77 FR 72324). The original Certificate No. 85-00018 was issued to USSA on June 3, 1986 (51 FR 20873). The previous amendment (No. 85-16A18) was issued to USSA on August 9, 2010 (75 FR 50747).

FOR FURTHER INFORMATION CONTACT: Joseph Flynn, Director, Office of Competition and Economic Analysis, International Trade Administration, by telephone at (202) 482-5131 (this is not a toll-free number) or Email at etca@trade.gov.

SUPPLEMENTARY INFORMATION: Title III of the Export Trading Company Act of 1982 (15 U.S.C. 4001-21) authorizes the Secretary of Commerce to issue Export Trade Certificates of Review. The regulations implementing Title III are found at 15 CFR Part 325 (2012).

OCEA is issuing this notice pursuant to 15 CFR 325.6(b), which requires the Department of Commerce to publish a summary of the certificate in the Federal Register. Under Section 305(a) of the Act and 15 CFR 325.11(a), any person aggrieved by the Secretary's determination may, within 30 days of the date of this notice, bring an action in any appropriate district court of the United States to set aside the determination on the ground that the determination is erroneous.

Description of Amendments to the Certificate

1. Add the following new Members of the Certificate within the meaning of section 325.2(1) of the Regulations (15 CFR 325.2(1)): Phibro Animal Health Corporation of Teaneck, NJ and Altimore Consultants, LLC of Needville, TX.

2. Delete the following Members from USSA's Certificate: Hexion Specialty Chemicals, Houston, TX; KRATON Polymers U.S. LLC, Houston, TX; Sartomer USA, LLC, Exton, PA; Shell Chemical and Oil Products Companies, Houston, TX; and Taminco, Inc., Taminco Higher Amines, Inc., and Taminco Methylamines, Inc., Allentown, PA.

The effective date of the amended certificate is November 21, 2012, the date on which USSA's application to amend was deemed submitted. A copy of the amended Certificate will be kept in the International Trade Administration's Freedom of Information Records Inspection Facility, Room 4001, U.S. Department of Commerce, 14th Street and Constitution Avenue NW., Washington, DC 20230.

Dated: February 22, 2013.
Jeffrey Anspacher,
Senior Economist, Export Trading Company Affairs.

[FR Doc. 2013-04781 Filed 2-28-13; 8:45 am]

BILLING CODE 3510-DR-P